ENVIRONMENTAL PROTECTION AGENCY

40 CFR Part 52

[R03-OAR-2004-PA-0001, R03-OAR-2004-PA-0002; FRL-7980-5]

Approval and Promulgation of Air Quality Implementation Plans; Pennsylvania; Revision to the Motor Vehicle Enhanced I/M Program—Philadelphia, Pittsburgh, South Central, and Northern Regions and Safety Inspection Program Enhancements for Non-I/M Regions

AGENCY: Environmental Protection Agency (EPA).

ACTION: Final rule.

SUMMARY: EPA is approving several State Implementation Plan (SIP) revisions submitted by the Commonwealth of Pennsylvania. These revisions amend Pennsylvania`s existing, Federally-approved enhanced vehicle inspection and maintenance program (or I/M program) SIP. EPA is herein taking a single final rulemaking action to finalize two separately issued proposed rulemakings on the subject of Pennsylvania's I/M program. The intended effect of this combined final action is to approve the Commonwealth's revised I/M program SIP for the Philadelphia, Pittsburgh, South Central and Northern Regions. This action also serves to incorporate into the SIP a visual emission component inspection program done under the Commonwealth's annual safety inspection program in those 42 counties of Pennsylvania not subject to Federal I/M program requirements.

DATES: This final rule is effective on November 7, 2005.

ADDRESSES: EPA has established two dockets for this action under Regional Material in E-Docket (RME) ID Number R03-OAR-2004-PA-0001 and Number R03-OAR-2004-PA-0002. All documents in the docket are listed in the RME index at http://www.docket.epa.gov/rmepub/. Once in the system, select Aquick search,” then key in the appropriate RME identification number for each docket. Although listed in the electronic docket, some information is not publicly available, i.e., confidential business information (CBI) or other information whose disclosure is restricted by statute. Certain other material, such as copyrighted material, is not placed on the Internet and will be publicly available only in hard copy form. Publicly available docket materials are available either electronically in RME or in hard copy for public inspection during normal business hours at the Air Protection Division, U.S. Environmental Protection Agency, Region III, 1650 Arch Street, Philadelphia, Pennsylvania 19103. Copies of the State submittal are available at the Pennsylvania Department of Environmental Protection, Bureau of Air Quality, P.O. Box 8468, 400 Market Street, Harrisburg, Pennsylvania 17105.

FOR FURTHER INFORMATION CONTACT: Brian Rehn, at (215) 814-2176, or by e-mail at rehn.brian@epa.gov.

SUPPLEMENTARY INFORMATION:

I. Background

EPA published two concurrent notices of proposed rulemaking (NPR) on April 26, 2005 proposing to approve two separate SIP revisions submitted by the Commonwealth of Pennsylvania. One of these April 26, 2005 NPRs (70 FR 21384) proposed approval of the Commonwealth's revised motor vehicle enhanced I/M program as it applies to select geographic regions of Pennsylvania. Pennsylvania regions affected by that rulemaking action include the South Central Region (Berks, Cumberland, Dauphin, Lancaster, Lebanon, Lehigh, Northampton, and York Counties) and the Northern Region (Blair, Cambria, Centre, Lackawanna, Luzerne, Lycoming, and Mercer Counties). EPA also proposed to approve portions of Pennsylvania's revised safety inspection program (for areas not subject to Federal enhanced I/M requirements) related to visual inspection of certain vehicle components that serve to reduce emissions. This emission component visual inspection element of the state safety inspection program is a new requirement for 42 Pennsylvania counties (see EPA's NPR for the complete list of affected counties). The Commonwealth's formal SIP revision, which was the subject of this notice, was submitted by Pennsylvania on December 1, 2003, and was revised via a technical SIP amendment submitted by Pennsylvania on April 29, 2004.

In the second of April 26, 2005 (70 FR 21380) rulemaking actions regarding Pennsylvania's I/M, EPA proposed approval of the revised enhanced I/M programs applicable in the Pittsburgh Region (Allegheny, Beaver, Washington, and Westmoreland Counties) and the Philadelphia Region (Bucks, Chester, Delaware, Montgomery, and Philadelphia Counties). The Commonwealth submitted a formal SIP revision on January 30, 2004 applicable only to these two Regions. This SIP revision was also revised by Pennsylvania via a technical SIP amendment submitted to EPA on April 29, 2004.

II. Summary of SIP Revision

EPA granted prior SIP approval to Pennsylvania's previously adopted I/M SIP in June 1999. Pennsylvania submitted formal SIP revisions to amend that SIP-approved I/M program program on December 1, 2003 (as revised April 29, 2004) and January 30, 2004 (as revised April 29, 2004). Hereafter, we will refer to these SIP revisions as the December 2003 and the January 2004 SIPs, respectively.

These SIP revisions, when viewed together, requested incorporation of newly state-adopted provisions effecting the Pittsburgh, Philadelphia, South Central, and Northern I/M program regions of Pennsylvania. These Pennsylvania counties are required to implement enhanced I/M under authority of Sections 182 and 184 of the Clean Air Act.

The December 2003 SIP revision serves to amend Pennsylvania's I/M program applicable to the South Central and Northern Regions by replacing a previously SIP-approved tailpipe test requirement for the South Central Region with on-board diagnostic testing of 1996 and newer subject vehicles, coupled with gas cap testing on all 1975 and newer subject vehicles, and visual emission component inspection of pre-1996 vehicles. For the Northern Region, the Commonwealth's December 2003 SIP revision requires visual component inspections and gas cap testing on 1975 and newer vehicles. This SIP revision also adds visual emission component inspections to the Commonwealth's existing, annual safety inspection program as it applies in those regions of Pennsylvania not subject to I/M emissions testing under authority of the Clean Air Act (i.e., the non-I/M Region).

The Commonwealth's January 2004 SIP revision revises the I/M program for the Philadelphia and Pittsburgh Regions. Changes to the prior SIP-approved I/M program affecting these regions include addition of on-board diagnostic (or OBD) computer checks for 1996 and newer vehicles and revision of the I/M test regimen to phase out tailpipe testing on pre-1996 vehicles when those vehicles reach 25 years of age. The January 2004 SIP revision overlaps the December 2003 SIP in some regards, including incorporation of some of the same state regulatory provision (i.e., minor updates to the regulations made since the enhanced I/M program's inception in 1997) that are overarching in scope to all geographic areas to the Commonwealth.

For more detail on the substance of the changes to Pennsylvania's annual enhanced I/M and safety inspection programs, and the rationale for EPA's proposed actions, please refer to the two concurrently published EPA proposed rulemaking actions in the April 26, 2005 Federal Register, as that information is not be restated here in its entirety. No public comments were received on these two proposed rulemaking actions.

III. Final Action

EPA is approving Pennsylvania's enhanced I/M program SIP revisions submitted on December 2003 and January 2004 (as amended April 2005) as a single revision to the Pennsylvania SIP. While EPA took two separate, concurrent proposed rulemaking actions on these two SIP revisions on April 26, 2004, we have decided to take a single, combined final rulemaking action to approve them. The rationale for this decision is that both the December 2003 and the January 2004 SIP revisions contain portions of the same Pennsylvania emission inspection program regulation, which was published in the Pennsylvania Bulletin on November 22, 2003 (67 Pa Code Chapter 177). Pennsylvania initially submitted redacted portions of the same regulation as part of each separate SIP revision (submitted November 2003 and January 2004 SIP). Pennsylvania redacted those regulatory provisions not relevant to the geographic areas that were the subject of each SIP revision. Pennsylvania later amended each of the SIP revisions (via the April 29, 2004 technical correction SIP revision) to submit the entire, revised emission program regulation (67 Pa Code Chapter 177) as part of both SIP revisions. Since EPA received no adverse comments on our concurrent proposed rulemaking actions taken upon the December 2003 and the January 2004 SIP revisions, and in order to simplify incorporation by reference of Pennsylvania's emission program regulations into the Federal SIP, we are moving to take this single, combined final rulemaking action for these SIP revisions.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal requirement, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action to approve Pennsylvania's revised motor vehicle inspection and maintenance program must be filed in the United States Court of Appeals for the appropriate circuit by December 5, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Nitrogen dioxide, Ozone, Reporting and recordkeeping requirements, Volatile organic compounds.

Dated: September 27, 2005.
Donald S. Welsh,
Regional Administrator, Region III.

40 CFR part 52 is amended as follows:

PART 52—[AMENDED]

1. The authority citation for part 52 continues to read as follows:

Authority: 42 U.S.C. 7401 et seq.

Subpart NN—Pennsylvania

2. In § 52.2020, the table in paragraph (c)(1) is amended by revising the entries for Title 67, Chapters 175 and 177 to read as follows:

Subpart NN—Pennsylvania

§ 52.2020 Identification of plan.

* * * * *

(c) * * *

(1) * * *

State citation | Title/subject | State effective date | EPA approval date | Additional explanation/§ 52.2063 citation
* * * * * * *
Title 67. Transportation
Part I. Department of Transportation
Subpart A. Vehicle Code Provisions
Article VII. Vehicle Characteristics
Chapter 175 Vehicle Equipment and Inspection
Subchapter A. General Provisions
175.2 | Definitions | 9/27/97 | 6/17/99, 64 FR 32411 | “Temporary Inspection Approval Indicator” only.
175.2 | Definitions | 12/3/88 | 10/6/05 [Insert page number where the document begins] | Definitions which apply to safety inspection program in non-I/M counties.
175.3 | Application of equipment rules | 12/3/88 | 10/6/05 [Insert page number where the document begins] | Applies to safety inspection program in non-I/M counties.
175.4 | Vehicles required to be inspected | 12/3/88 | 10/6/05 [Insert page number where the document begins] | Applies to safety inspection program in non-I/M counties.
175.6 | Annual inspection | 12/3/88 | 10/6/05 [Insert page number where the document begins] | Applies to safety inspection program in non-I/M counties.
175.7 | Inspection of vehicle reentering this Commonwealth | 12/3/88 | 10/6/05 [Insert page number where the document begins] | Applies to safety inspection program in non-I/M counties.
175.8 | Newly purchased vehicles | 2/19/94 | 10/6/05 [Insert page number where the document begins] | Applies to safety inspection program in non-I/M counties.
175.11 | Coordination of safety and emission inspection | 9/27/97 | 6/17/99, 64 FR 32411 | (c)(139)
Subchapter B. Official Inspection Stations
175.21 | Appointment | 12/3/88 | 10/6/05 [Insert page number where the document begins] | Applies to safety inspection program in non-I/M counties.
175.22 | Making application | 12/3/88 | 10/6/05 [Insert page number where the document begins] | Applies to safety inspection program in non-I/M counties.
175.23(a) and (c) | Approval | 12/3/88 | 10/6/05 [Insert page number where the document begins] | Applies to safety inspection program in non-I/M counties.
175.24 | Required certificates and station signs | 12/3/88 | 10/6/05 [Insert page number where the document begins] | Applies to safety inspection program in non-I/M counties.
175.25(a), (b)(1), (b)(3), and (c) | Inspection area | 12/3/88 | 10/6/05 [Insert page number where the document begins] | Applies to safety inspection program in non-I/M counties.
175.26(a) introductory sentence and (a)(3) | Tools and equipment | 9/28/96 | 10/6/05 [Insert page number where the document begins] | Applies to safety inspection program in non-I/M counties.
175.27 | Hours | 12/3/88 | 10/6/05 [Insert page number where the document begins] | Applies to safety inspection program in non-I/M counties.
175.28 [Except for (c)(2), (g)(2), (g)(3), and (g)(5)-(9)] | Certified Inspection Mechanics | 12/3/88 | 10/6/05 [Insert page number where the document begins] | Applies to safety inspection program in non-I/M counties.
175.29 | Obligations and responsibilities of stations | 9/27/97 | 10/6/05 [Insert page number where the document begins] | Applies to safety inspection program in non-I/M counties (except for (f)(4), which applies to I/M and non-I/M programs).
175.31 | Fleet inspection stations | 12/3/88 | 10/6/05 [Insert page number where the document begins] | Applies to safety inspection program in non-I/M counties.
Subchapter C. Certificate of Inspection
175.41(a), (b)(1), (b)(3), (c), (d), (e)(1), (e)(3), (e)(5), and (f)(4) | Procedure | 9/27/97 | 10/6/05 [Insert page number where the document begins] | Applies statewide (to I/M program and non-I/M safety inspection program.
175.42 | Recording inspection | 9/27/97 | 6/17/99, 64 FR 32411 |
175.43 | Security | 9/27/97 | 6/17/99, 64 FR 32411 |
175.44 | Ordering certificates of inspection | 9/27/97 | 6/17/99, 64 FR 32411 |
175.45 | Violation of use of certificate of inspection | 9/27/97 | 6/17/99, 64 FR 32411
Subchapter D. Schedule of Penalties and Suspensions: Official Inspection Stations and Certified Mechanics
175.51 | Cause for suspension | 2/19/94 | 10/6/05 [Insert page number where the document begins] | New section; Applies to safety inspection program in non-I/M counties.
175.52 | Reapplication | 12/3/88 | 10/6/05 [Insert page number where the document begins] | New section; Applies to safety inspection program in non-I/M counties.
Subchapter E. Passenger Cars and Light Trucks
175.61 | Application of subchapter | 12/3/88 | 10/6/05 [Insert page number where the document begins] | New section: Applies to safety inspection program in non-I/M counties.
175.72(d) | Fuel system | 12/3/88 | 10/6/05 [Insert page number where the document begins] | New section; Applies to safety inspection program in non-I/M counties.
175.80(d) | Inspection procedure | 5/13/99 | 10/6/05 [Insert page number where the document begins] | New section; Applies to safety inspection program in non-I/M counties.
Subchapter H. Motorcycles
175.141 | Application of subchapter | 12/3/88 | 10/6/05 [Insert page number where the document begins] | New section; Applies to safety inspection program in non-I/M counties.
Subchapter J. Motor-Driven Cycles and Motorized Pedalcycles
175.171 | Application | 12/3/88 | 10/6/05 [Insert page number where the document begins] | New section; Applies to safety inspection program in non-I/M counties.
Subchapter K. Street Rods, Specially Constructed and Reconstructed Vehicles
175.201 | Application of subchapter | 12/3/88 | 10/6/05 [Insert page number where the document begins] | New section; Applies to safety inspection program in non-I/M counties.
175.202 | Conditions | 12/3/88 | 10/6/05 [Insert page number where the document begins] | Applies to safety inspection program in non-I/M counties.
175.220(d) [introductory sentence only] | Inspection procedure | 5/13/99 | 10/6/05 [Insert page number where the document begins] | Applies to safety inspection program in non-I/M counties.
Subchapter L. Animal-Drawn Vehicles, Implements of Husbandry and Special Mobile Equipment
175.221 | Application | 12/3/88 | 10/6/05 [Insert page number where the document begins]
Chapter 177 Enhanced Emission Inspection Program
Subchapter A. General Provisions
177.1 | Purpose | 10/1/97 | 6/17/99, 64 FR 32411 | (c)(139)
177.2 | Application of equipment rules | 10/1/97 | 6/17/99, 64 FR 32411 | (c)(139)
177.3 | Definitions | 11/22/03 | 10/6/05 [Insert page number where the document begins]
Implementation of Emission Inspection Program
177.22 | Commencement of inspections | 11/22/03 | 10/6/05 [Insert page number where the document begins] | Retitled and revised.
177.23 | Notification of requirement for emission inspection | 11/22/03 | 10/6/05 [Insert page number where the document begins] |
177.24 | Program evaluation | 11/22/03 | 10/6/05 [Insert page number where the document begins]
I/M Program
177.51 | Program requirements | 11/22/03 | 10/6/05 [Insert page number where the document begins] | Excludes paragraphs (c)(1), (c)(2), and (c)(3), and reference to those paragraphs.
177.52 | Emission inspection prerequisites | 11/22/03 | 10/6/05 [Insert page number where the document begins] |
177.53 | Vehicle inspection process | 11/22/03 | 10/6/05 [Insert page number where the document begins]
Subchapter B. Subject Vehicles
177.101 | Subject vehicles | 11/22/03 | 10/6/05 [Insert page number where the document begins]
177.102 | Inspection of vehicles reentering this Commonwealth | 9/27/97 | 6/17/99, 64 FR 32411 | (c)(139)
177.103 | Used vehicles after sale or resale | 9/27/97 | 6/17/99, 64 FR 32411 | (c)(139)
177.104 | Vehicles registered in nondesignated areas or other states | 9/27/97 | 6/17/99, 64 FR 32411 | (c)(139)
177.105 | Vehicles requiring mission inspection due to change of address | 11/22/03 | 10/6/05 [Insert page number where the document begins]
Subchapter C. Emission Test Procedures and Emission Standards
General
177.201 | General requirements | 11/22/03 | 10/6/05 [Insert page number where the document begins]
177.202 | Emission test equipment | 11/22/03 | 10/6/05 [Insert page number where the document begins]
177.202a | OBD-I/M check equipment | 11/22/03 | 10/6/05 [Insert page number where the document begins] | New section.
177.202b | Equipment for gas cap test and visual inspection | 11/22/03 | 10/6/05 [Insert page number where the document begins] | New section.
177.203 | Test procedures | 11/22/03 | 10/6/05 [Insert page number where the document begins]
177.204 | Basis for failure | 11/22/03 | 10/6/05 [Insert page number where the document begins] | Retitled and revised.
Recall Provisions
177.231 | Requirements regarding manufacturer recall notices | 9/27/97 | 6/17/99, 64 FR 32411 | (c)(139)
177.232 | Compliance with recall notices | 9/27/97 | 6/17/99, 64 FR 32411 | (c)(139)
177.233 | Failure to comply | 9/27/97 | 6/17/99, 64 FR 32411 | (c)(139)
Emission Inspection Report
177.251 | Record of test results | 9/27/97 | 6/17/99, 64 FR 32411 | (c)(139)
177.252 | Emission inspection report | 11/22/03 | 10/6/05 [Insert page number where the document begins] | Retitled and revised.
177.253 | Responsibility of the station owner for vehicles which fail the emission inspection | 11/22/03 | 10/6/05, [Insert page number where the document begins] | Retitled and revised.
Retest
177.271 | Procedure | 11/22/03 | 10/6/05 [Insert page number where the document begins] |
177.272 | Prerequisites | 11/22/03 | 10/6/05 [Insert page number where the document begins] |
177.273 | Content of repair data form | 11/22/03 | 10/6/05 [Insert page number where the document begins] |
177.274 | Retest fees | 11/22/03 | 10/6/05 [Insert page number where the document begins] |
177.275 | Repair technician training and certification | 11/22/03 | 10/6/05 | New section.
Issuance of Waiver
177.281 | Issuance of waiver | 11/22/03 | 10/6/05 [Insert page number where the document begins] |
177.282 | Annual adjustment of minimum waiver expenditure for emission inspection | 11/22/03 | 10/6/05 [Insert page number where the document begins] | Excludes/removes the sentence and partial sentence, “The minimum expenditure for the first 2 years after commencement of the program in an affected area is $150. Beginning with the 3rd year of the program in an affected area”.
Procedures Relating to Certificates of Emission Inspection
177.291 | Procedures relating to certificates of emission inspection | 11/22/03 | 10/6/05 [Insert page number where the document begins] | Retitled and revised.
177.292 | Recording inspection | 11/22/03 | 10/6/05 [Insert page number where the document begins]
On-Road Testing
177.301 | Authorization to conduct on-road emission testing | 9/27/97 | 6/17/99, 64 FR 32411 | (c)(139)
177.302 | On-road testing devices | 9/27/97 | 6/17/99, 64 FR 32411 | (c)(139)
177.304 | Failure of on-road emission test | 11/22/03 | 10/6/05 [Insert page number where the document begins] |
177.305 | Failure to produce proof of correction of on-road emission test failure | 9/27/97 | 6/17/99, 64 FR 32411 | (c)(139)
Subchapter D. Official Emission Inspection Station Requirements
General
177.401 | Appointment | 11/22/03 | 10/6/05 [Insert page number where the document begins] |
177.402 | Application | 9/27/97 | 6/17/99, 64 FR 32411 | (c)(139)
177.403 | Approval of emission inspection station | 9/27/97 | 6/17/99, 64 FR 32411 | (c)(139)
177.404 | Required certificates and station signs | 11/22/03 | 10/6/05 [Insert page number where the document begins] |
177.405 | Emission inspection areas | 11/22/03 | 10/6/05 [Insert page number where the document begins]
177.406 | Equipment | 11/22/03 | 10/6/05 [Insert page number where the document begins] | Retitled and revised.
177.407 | Hours of operation | 11/22/03 | 10/6/05 [Insert page number where the document begins]
177.408 | Certified emission inspectors | 11/22/03 | 10/6/05 [Insert page number where the document begins]
Obligations and Responsibilities of Station Owners/Agents
177.421 | Obligations and responsibilities of station owners/agents | 11/22/03 | 10/6/05 [Insert page number where the document begins]
177.422 | Commonwealth emission inspection stations | 11/22/03 | 10/6/05 [Insert page number where the document begins] | Retitled and revised.
177.423 | Fleet emission inspection stations | 11/22/03 | 10/6/05 [Insert page number where the document begins] | Retitled and revised.
177.424 | General emission inspection stations | 11/22/03 | 10/6/05 [Insert page number where the document begins]
177.425 | Security | 11/22/03 | 10/6/05 [Insert page number where the document begins]
177.426 | Ordering certificates of emission inspection | 9/27/97 | 6/17/99, 64 FR 32411 | (c)(139)
177.427 | Violations of use of certificate of emission inspection | 9/27/97 | 6/17/99, 64 FR 32411 | (c)(139)
Quality Assurance
177.431 | Quality assurance | 11/22/03 | 10/6/05 [Insert page number where the document begins]
Subchapter E. Equipment Manufacturers' and Contractors' Requirements and Obligations
Equipment Manufacturers' Requirements
177.501 | Equipment approval procedures | 11/22/03 | 10/6/05 [Insert page number where the document begins]
177.502 | Service commitment | 11/22/03 | 10/6/05 [Insert page number where the document begins]
177.503 | Performance commitment | 11/22/03 | 10/6/05 [Insert page number where the document begins]
177.504 | Revocation of approval | 9/27/97 | 6/17/99, 64 FR 32411 | (c)(139)
Contractor Obligations
177.521 | Contractor obligations and responsibilities | 11/22/03 [ | 10/6/05 [Insert page number where the document begins]
Subchapter F. Schedule of Penalties and Hearing Procedure
Schedule of Penalties and Suspensions
177.601 | Definitions | 11/22/03 | 10/6/05 [Insert page number where the document begins] | New section.
177.602 | Schedule of penalties for emission inspection stations | 11/22/03 | 10/6/05 [Insert page number where the document begins] |
177.603 | Schedule of penalties for emission inspectors | 11/22/03 | 10/6/05 [Insert page number where the document begins] |
Additional Violations
177.605 | Subsequent violations | 11/22/03 | 10/6/05 [Insert page number where the document begins] |
177.606 | Multiple violations | 9/27/97 | 6/17/99, 64 FR 32411 | (c)(139)
Departmental Hearing Procedure
177.651 | Notice of alleged violation and opportunity to be heard prior to immediate suspension | 11/22/03 | 10/6/05 [Insert page number where the document begins] | Retitled and revised.
177.652 | Official documents | 09/27/97 | 6/17/99, 64 FR 32411 | (c)(139)
Restoration After Suspension
177.671 | Restoration of certification of an emission inspector after suspension | 9/27/97 | 6/17/99, 64 FR 32411 | (c)(139)
177.672 | Restoration of certification of an emission inspection station after suspension | 9/27/97 | 6/17/99, 64 FR 32411 | (c)(139)
177.673 | Restoration of certification of certified repair technician after suspension | 9/27/97 | 6/17/99, 64 FR 32411 | (c)(139)
Registration Recall Procedure for Violation of §§ 177.301-177.305 (Relating to On-Road Resting)
177.691 | Registration Recall Committee | 11/22/03 | 10/6/05 [Insert page number where the document begins] |
Appendix A | Acceleration Simulation Mode: Pennsylvania Procedures, Standards, Equipment Specifications and Quality Control Requirements | 11/22/03 | 10/6/05 [Insert page number where the document begins] | Replaces previous Appendix A.
Appendix B | Department Procedures and Specifications | 11/22/03 | 10/6/05 [Insert page number where the document begins] | Replaces previous Appendix B.

* * * * *

[FR Doc. 05-20003 Filed 10-5-05; 8:45 am]

BILLING CODE 6560-50-P